DEPARTMENT OF COMMERCE

National Telecommunications and Information Administration

Notice: Broadband Grant Programs Meetings

AGENCY: National Telecommunications and Information Administration (NTIA), U.S. Department of Commerce.

ACTION: Notice of Meetings, Clarification.

Summary: On February 24, 2009, the National Telecommunications and Information Administration (NTIA) published a Notice in the Federal Register announcing its intention to begin holding meetings on March 2, 2009, in connection with the broadband grant programs described in the Broadband Data Services Improvement Act, Public Law No. 110-385, and the American Recovery and Reinvestment Act of 2009 (Recovery Act), Public Law No. 111-5 (collectively, “Broadband Grant Programs”). This Notice provides clarification regarding those meetings.

DATES: March 16, 2009.

ADDRESSES: U.S. Department of Commerce, National Telecommunications and Information Administration, 1401 Constitution Avenue, N.W., Washington, DC 20230.

FOR FURTHER INFORMATION CONTACT: Barbara Brown at (202) 482-4374 or bbrown@ntia.doc.gov.

SUPPLEMENTARY INFORMATION: On February 24, 2009, NTIA published a Notice announcing a joint public meeting with the U.S. Department of Agriculture (USDA) and the Federal Communications Commission (FCC) to discuss the Broadband Initiatives contained in the Recovery Act. See Joint Notice of Public Meeting, 74 Fed. Reg. 8914 (Feb. 27, 2009) (announcing a joint public meeting on March 10, 2009). At the same time, NTIA published a Notice announcing its intention to begin holding meetings on March 2, 2009 in response to numerous requests received from individuals and groups interested in the program. See Notice of Meetings, 74 Fed. Reg. 8233 (Feb. 24, 2009). This Notice explained the manner in which individuals and groups could request meetings and the treatment of such meetings as ex parte presentations. Since the publication of these Notices, NTIA has received over 2,500 requests for meetings from interested parties.

Subsequently, NTIA and USDA's Rural Utilities Service announced that the agencies would hold six public meetings on March 16, 17, 18, 19, 23, and 24, 2009, about the new broadband grants, loans, and loan guarantees funded by the Recovery Act and accept written comments about the programs through April 13, 2009. See Joint Request for Information and Notice of Public Meetings, 74 Fed. Reg. 10716 (March 12, 2009). These public meetings will be conducted as roundtables, will be open to the public, and also will be webcast. Transcripts and all written comments received also will be available. Participation in the public meetings and the filing of written comments is encouraged. For further information about these meetings and to submit and view written comments, please see NTIA's website at http://www.ntia.doc.gov/broadbandgrants/.

As a result of the overwhelming demand from interested parties for meetings and the expedited time frames in the Recovery Act for making the broadband grant, loan, and loan guarantee funds available, NTIA will not able to accommodate all meeting requests received. The agency, however, does reserve the right to schedule such ex parte meetings as necessary to fulfill the needs of the Broadband Grant Program. All other information provided in the Notice of Meetings remains unchanged.

Dated: March 13, 2009.
Kathy D. Smith,
Chief Counsel, National Telecommunications and Information Administration.

[FR Doc. E9-5838 Filed 3-13-09; 4:15 pm]

BILLING CODE 3510-60-S